DEPARTMENT OF ENERGY

Federal Energy Regulatory Commission

[Docket No. EL03-123-000]

Richard Blumenthal, Attorney General of the State of Connecticut and the Connecticut Department of Public Utility Control v. NRG Power Marketing Inc.; Notice Shortening Answer Period

May 29, 2003.

On May 27, 2003, NRG Power Marketing Inc. (NRG) filed a Motion for Summary Disposition by May 29, 2003 Vacating the May 16 Order, Dismissing the Amended Complaint, and Terminating the Proceeding, in the above-docketed proceeding. By this notice, the date for filing answers to NRG's motion is shortened to and including June 6, 2003.

Editorial note: This document was received at the Office of the Federal Register June 18, 2003.

Magalie R. Salas,
Secretary.

[FR Doc. 03-15790 Filed 6-18-03; 4:00 pm]

BILLING CODE 6717-01-P